FEDERAL MARITIME COMMISSION

Security for the Protection of the Public Financial Responsibility To Meet Liability Incurred for Death or Injury to Passengers or Other Persons on Voyages; Notice of Issuance of Certificate (Casualty)

Notice is hereby given that the following have been issued a Certificate of Financial Responsibility to Meet Liability Incurred for Death or Injury to Passengers or Other Persons on Voyages pursuant to the provisions of Section 2, Public Law 89-777 (46 U.S.C. 817(d)) and the Federal Maritime Commission's implementing regulations at 46 CFR Part 540, as amended:

Austal Ships Sales Pty Ltd. 100 Clarence Beach Road, Henderson 6166, Perth, Australia

Vessel: Westpac Express

C G Cruise Invest As (d/b/a SeaDream Yacht Club), 2601 S. Bayshore Drive, Coconut Grove, FL 33133

Vessels: Seadream I and Seadream II

Celebrity Cruises, Inc. and Summit Inc., 1050 Caribbean Way, Miami, FL 33132

Vessel: Summit

Corporacion Ferries del Caribe, Inc., Access Ferries S.A. and Wealcan Enterprises Inc., Calle Concordia #249 Altos, P.O. Box 6448, Mayaguez, PR 00680

Vessel: Millenium Express

Delta Queen Coastal Voyages, L.L.C., The Delta Queen Steamboat Co. and Cape May Light, L.L.C., 1380 Port of New Orleans Place, New Orleans, LA 70130

Vessel: Cape May Light

Discovery Sun Partnership, Discovery Sun Cruises, Inc., Discovery Sun Tours, Inc. and International Shipping Partners, Inc., 1775 N.W. 70th Avenue, Miami, FL 33126-1341

Vessel: Discovery Sun

Norwegian Cruise Line Limited, 7665 Corporate Center Drive, Miami, FL 33126

Vessel: Norwegian Sun

P & O Princess Cruises International Limited, Princess Cruise Lines, Ltd. and Cosmex International Limited, Richmond House, Terminus Terrace, Southampton S014 3PN, United Kingdom

Vessel: Victoria

Prince of Fundy Cruises Ltd., International Shipping Partners, Inc. and Transworld Steamship Co. Inc., Station A, P.O. Box 4216, 468 Commercial Street, Portland, ME 04101

Vessel: Scotia Prince

Princess Cruise Lines, Ltd., P & O Princess Cruises International Limited and P & O Princess Cruises plc, 24305 Town Center Drive, Santa Clarita, CA 91355-4999

Vessels: Crown Princess and Regal Princess

Princess Cruise Lines, Ltd., P & O Princess Cruises International Limited, Fairline Shipping Corporation Ltd. and P & O Princess Cruises plc, 24305 Town Center Drive, Santa Clarita, CA 91355-4999

Vessel: Dawn Princess

Princess Cruise Lines, Ltd., P & O Princess Cruises International Limited, GP2 Ltd. and P & O Princess Cruises plc, 24305 Town Center Drive,Santa Clarita, CA 91355-4999

Vessel: Golden Princess

Princess Cruise Lines, Ltd. P & O Princess Cruises International Limited, Fairline Shipping International Corporation Ltd. and P & O Princess Cruises plc, 24305 Town Center Drive, Santa Clarita, CA 91355-4999

Vessel: Grand Princess

Princess Cruise Lines, Ltd., P & O Princess Cruises International Limited, OP Shipping Corporation, Ltd. and P & O Princess Cruises plc, 24305 Town Center Drive, Santa Clarita, CA 91355-4999

Vessel: Ocean Princess

Princess Cruise Lines, Ltd., P & O Princess Cruises International Limited, Princess Cruises (Shipowners) Limited, Liberty Maritime International Ltd. and P & O Princess Cruises plc, 24305 Town Center Drive, Santa Clarita, CA 91355-4999

Vessel: Pacific Princess

Princess Cruise Lines, Ltd., P & O Princess Cruises International Limited, Princess Cruises (Shipowners) Limited, Princess Tours Limited and P & O Princess Cruises plc, 24305 Town Center Drive, Santa Clarita, CA 91355-4999

Vessel: Royal Princess

Princess Cruise Lines, Ltd., P & O Princess Cruises International Limited C P Shipping Corporation, Ltd. and P & O Princess Cruises plc, 24305 Town Center Drive, Santa Clarita, CA 91355-4999

Vessel: Sea Princess

Princess Cruise Lines, Ltd., P & O Princess Cruises International Limited, COROT Shipping Corp. (Sociedade Unipessoal Lda.) and P & O Princess Cruises plc, 24305 Town Center Drive, Santa Clarita, CA 91355-4999

Vessel: Sun Princess

Silversea Cruises, Ltd. and Silversea New Build Two Ltd., 110 East Broward Blvd., Fort Lauderdale, FL 33301

Vessel: Silver Whisper

West Travel, Inc. (d/b/a Alaska Sightseeing/Cruise West), 2401 4th Avenue, Seattle, WA 98121-1438

Vessel: Spitit of Alaska

West Travel, Inc.(d/b/a Alaska Sightseeing/Cruise West) The Spirit of Oceanus, Ltd. and V Ships Leisure SAM, 2401 4th Avenue, Seattle, WA 98121-1438

Vessel: Spirit of Oceanus

Dated: October 12, 2001.
Bryant L. VanBrakle,
Secretary.

[FR Doc. 01-26145 Filed 10-16-01; 8:45 am]

BILLING CODE 6730-01-P